CONSUMER PRODUCT SAFETY COMMISSION

[Docket No. CPSC-2012-0030]

Agency Information Collection Activities; Submission for OMB Review; Comment Request; Testing and Recordkeeping Requirements for Carpets and Rugs

AGENCY: Consumer Product Safety Commission.

ACTION: Notice.

SUMMARY: As required by the Paperwork Reduction Act of 1995, the Consumer Product Safety Commission (CPSC) announces a submission to the Office of Management and Budget (OMB) requesting an extension of approval for a collection of information related to the CPSC's Standard for the Surface Flammability of Carpets and Rugs and the Standard for the Surface Flammability of Small Carpets and Rugs (OMB No. 3041-0017). CPSC previously published a notice announcing the agency's intent to seek an extension of approval of this collection of information. CPSC received no comments in response to that notice.

DATES: Written comments on this request for extension of approval for information collection requirements should be submitted by December 7, 2018.

ADDRESSES: Submit comments about this request by email: OIRA_submission@omb.eop.gov or fax: 202-395-6881. Comments by mail should be sent to the Office of Information and Regulatory Affairs, Attn: OMB Desk Officer for the CPSC, Office of Management and Budget, Room 10235, 725 17th Street NW, Washington, DC 20503. In addition, written comments that are sent to OMB also should be submitted electronically at http://www.regulations.gov, under Docket No. CPSC-2012-0030.

FOR FURTHER INFORMATION CONTACT: Bretford Griffin, Consumer Product Safety Commission, 4330 East West Highway, Bethesda, MD 20814; (301) 504-7037, or by email to: bgriffin@cpsc.gov.

SUPPLEMENTARY INFORMATION: CPSC seeks to renew the following currently approved collection of information:

Title: Safety Standard for the Flammability of Carpets and Rugs and Standard for the Flammability of Small Carpets and Rugs.

OMB Number: 3041-0017.

Type of Review: Renewal of collection.

Frequency of Response: On occasion.

Affected Public: Manufacturers and importers of carpets and rugs.

Estimated Number of Respondents: Out of 215 domestic manufacturers, approximately half, or 108 manufacturers, elect to issue a guaranty of compliance with the FFA. Additionally, of the approximately 6,000 firms that import carpets and rugs, approximately 1,500 elect to issue guaranties of compliance. Staff estimates that the average firm issuing a continuing guarantee under the FFA is required to conduct, at most, 200 tests per year, although the actual number of tests required by a given firm may vary from one to 200, depending upon the number of carpet styles and the annual production volume. To estimate burden, we selected the midpoint, 100 tests per year.

Estimated Time per Response: 2.5 hours to conduct each test, and to establish and maintain test records.

Total Estimated Annual Burden: The time required to conduct each test is estimated to be 2.5 hours, including the time required to establish and maintain the test records. We estimate the total annualized cost/burden to respondents could be as many as 160,800 tests per year (1,608 firms × 100 tests), at 2.5 hours per test, or 402,000 hours.

Total Estimated Annual Cost to Respondents: The total annualized costs to all respondents for the hour burden for collection of information is estimated to be as high as $27,830,460, using a mean hourly employer cost-per-hour-worked of $69.23 (Bureau of Labor Statistics: Total compensation rates for management, professional, and related occupations in private goods-producing industries, March 2018) (402,000 hours × $69.23).

General Description of Collection: The Standard for the Surface Flammability of Carpets and Rugs (16 CFR part 1630) and the Standard for the Surface Flammability of Small Carpets and Rugs (16 CFR part 1631) establish requirements to reduce the flammability of carpets and rugs. The standards' provisions include requirements for testing and recordkeeping for manufacturers and importers who furnish guaranties subject to the carpet and rug flammability standards. Separate from the guaranties, the Consumer Product Safety Improvement Act of 2008 (CPSIA) established product certification requirements for applicable consumer product safety standards and rules. 15 U.S.C. 2063(g).

Alberta E. Mills,
Secretary, Consumer Product Safety Commission.

[FR Doc. 2018-24318 Filed 11-6-18; 8:45 am]

BILLING CODE 6355-01-P